DEPARTMENT OF AGRICULTURE

Forest Service

Willow Creek Pass Fuel Reduction Project

AGENCY: Forest Service, USDA—Medicine Bow-Routt National Forests; Hahns Peak-Bears Ears Ranger District, Steamboat Springs, Colorado.

PROJECT: Willow Creek Pass Fuel Reduction Project.

ACTION: Notice of intent to prepare an environmental impact statement (EIS).

SUMMARY: The mountain pine beetle epidemic is continuing to cause large areas of mortality to lodgepole pine throughout the Medicine Bow-Routt National Forests. Adjacent private lands are experiencing mortality along shared boundaries and an increasing number of homeowner associations are taking preventive steps to provide defensible space around their properties and reduce overhead hazard trees.

The Willow Creek Pass Village Homeowners Association (WCPV-HOA) has requested assistance with increasing defensible space and removal of hazard trees on Forest lands (east) adjacent to their private boundary.

This project is an “authorized and covered project” under Title I of the Healthy Forests Restoration Act (HFRA). We will be using expedited procedures authorized by this Act to complete project planning and decision-making. Use of this authority requires an emphasis on collaboration with local communities and a determination that an epidemic exists by consulting with forest health specialists.

DATES: The draft environmental impact statement is expected to be filed with the Environmental Protection Agency (EPA) and available for public review during April 2009. At that time, the EPA will publish a Notice of Availability (NOA) of the draft EIS in the Federal Register. The comment period on the draft EIS will be for a period of not less than 45 days from the date the EPA publishes the NOA in the Federal Register. It is important that those interested in the management of this area comment at that time.

The final EIS is expected to be available in June 2009. In the final EIS, the Forest Service will respond to any comments received during the public comment period that pertain to the environmental analysis. Those comments and the Forest Service responses will be disclosed and discussed in the final EIS and will be considered when the final decision about this proposal is made.

ADDRESSES: Send written comments to Jamie Kingsbury, District Ranger, 925 Weiss Drive, Steamboat Springs, Colorado 80487. Comments may also be sent via e-mail or facsimile. E-mail to: comments-rocky-mountain-medicine-bow-routt-hahns-peak-bears-ears@fs.fed.us, include “Willow Creek Pass” in the subject line of the e-mail message, or via facsimile to 970-870-2284.

Comments received in response to this solicitation, including names and addresses of those who comment, will be part of the public record for this proposed action. Comments submitted anonymously will be accepted and considered; however, anonymous comments will not provide the respondent with standing to appeal the subsequent decision.

FOR FURTHER INFORMATION CONTACT: Brian Waugh—Environmental Coordinator (970-870-2185) or Andy Cadenhead—Supervisory Forester (970-870-2220), Medicine Bow-Routt National Forests, 925 Weiss Drive, Steamboat Springs, Colorado 80487.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Willow Creek Pass Project is to provide defensible space along the boundary shared with the U.S. Forest Service and reduce fuel and overhead hazards adjacent to the private properties in the WCPV-HOA. This would include reducing hazard fuels in close proximity to private in-holdings and adjacent properties of the WCPV-HOA, creating defensible space to provide increased protection from wildland fire events, and removing hazard trees that could fall on private residences and other improvements in the Willow Creek Pass Village Homeowners Association.

There is a need to:

• Reduce the development of continuous high hazard fuel conditions.

• Reduce hazard trees within damage distance to private dwellings.

• Remove beetle killed and dying lodgepole pine.

• Promote regeneration of aspen and other conifer species to expedite the establishment of the next forest.

Proposed Action

The proposed action would occur in the Dome Peak inventoried roadless area. After the proposed Colorado Roadless Rule decision has been signed, this project would be permitted with an Environmental Impact Statement.

The Willow Creek Pass Village Homeowners Association proposal was modified slightly by specialists with the U.S. Forest Service, HPBE Ranger District to treat approximately 100 acres of mature forested stands where lodgepole pine is dead and dying from the ongoing beetle epidemic. The proposed treatment area on National Forest lands is adjacent to the Willow Creek Pass Village Homeowners Association. Access onto the Forest would be through the Marshall Property on the south end and private property to be determined in the central part of the project area where approximately ¼ mile of temporary road would be constructed for the hazard tree removal and then obliterated at the end of the project. The last access would be on an existing dead end road spur that accesses a user trail onto the Forest. This northernmost access would require no temporary road as skidding would occur to the existing access location. Lodgepole pine would be targeted for removal along the shared Forest and private boundaries approximately 800 feet east inside the Forest boundary. The heaviest removal would extend from the shared boundary to a temporary road with whole-tree skidding required from the shared Forest/homeowner boundary to the temporary road east of the boundary approximately 300 feet.

The proposed action would remove all lodgepole pine down to 5 inches diameter at breast height and all other hazard trees greater than 7 inches diameter at breast height. Hazard trees within 300 feet of the shared Forest/homeowner boundary would be whole-tree skidded to a landing along the temporary road, limbed and decked at this location. Removal east of the temporary road could be whole-tree skidded or lopped and scattered at point of felling with excess slash piled for later faIl/winter burning operations.

The project area can be accessed off of Routt County Road (RCR) 129 along existing roads in the WCPV-HOA subdivision east of RCR 129. The existing roads in the homeowners association are well maintained and would require little maintenance for log hauling. New temporary roads would need to be constructed from private properties onto forest lands to facilitate accessing and removing the timber. The temporary roads, skid trails, and landings would be reclaimed to their original contours and permanently closed at the end of the project.

Responsible Official

The responsible official is Jamie Kingsbury, District Ranger, Hahns Peak/Bears Ears Ranger District, 925 Weiss Drive, Steamboat Springs, Colorado 80487.

Nature of Decision To Be Made

The decision will be whether to treat dead and dying lodgepole pine timber affected by the mountain pine beetle epidemic in the Dome Peak Inventoried Roadless Area adjacent to the private properties of the Willow Creek Pass Village Homeowners Association that are fuel and overhead hazards to the community. If the decision is to treat the hazard fuels and standing hazards to complement the on-going work on private lands, the type, distribution, and priority of treatments would be decided with consideration for resource protection for watersheds, recreation, scenery, and wildlife habitat.

Preliminary Issues

• Subdivision road maintenance and repair.

• Smoke management during pile burning.

• Logging vehicle conduct on subdivision roads during hauling.

Scoping Process

This notice of intent initiates the scoping process, which guides the development of the Environmental Impact Statement (EIS). The Forest Service has listed the project in the Schedule of Proposed Actions that is posted on the Web. A field trip on July 26, 2008 with Forest Service specialists and interested homeowners reviewed the proposed project area and potential treatments. At least one additional meeting is planned after the draft EIS is available. The Forest Service will also respond to information requests about the project and add additional public meetings and field trips as interest dictates.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Release of Names

Comments received in response to this solicitation, including names and addresses of those who commented, will be considered part of the public record on this Proposed Action and will be available for public inspection. Comments submitted anonymously will be accepted and considered; however, those who submit anonymous comments will not have standing to object to the subsequent decision under 36 CFR Part 218. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

Early Notice of Importance of Public Participation in Subsequent Environmental Review: A draft environmental impact statement will be prepared for comment. The comment period on the draft environmental impact statement will be 45 days from the date the Environmental Protection Agency publishes the notice of availability in the Federal Register.

The Forest Service believes, at this early stage, that it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised during the draft environmental impact statement stage, but are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final environmental impact statement.

To assist the Forest Service in identifying and considering issues and concerns related to the Proposed Action, comments on the draft environmental impact statement should be as specific as possible. It is also helpful if comments refer to specific pages or chapters of the draft document. Comments may also address the adequacy of the draft environmental impact statement or the merits of the alternatives displayed in the document. Reviewers should refer to the Council on Environmental Quality Regulations at 40 CFR 1503.3 for implementing the procedural provisions of the National Environmental Policy Act for addressing these points.

Dated: March 22, 2009.
Mary H. Peterson,
Forest Supervisor, Medicine Bow-Routt National Forests.

[FR Doc. E9-7490 Filed 4-6-09; 8:45 am]

BILLING CODE 3410-11-M